DEPARTMENT OF HEALTH AND HUMAN SERVICES

Renewal of Charter for the Presidential Advisory Council on HIV/AIDS

AGENCY: Department of Health and Human Services, Office of the Secretary, Office of Public Health and Science.

ACTION: Notice.

SUMMARY: As stipulated by the Federal Advisory Committee Act, as amended (5 U.S.C. Appendix 2), the U.S. Department of Health and Human Services is hereby announcing renewal of the charter for the Presidential Advisory Council on HIV/AIDS (PACHA).

FOR FURTHER INFORMATION CONTACT: Mr. Christopher Bates, Interim Executive Director, PACHA, Department of Health and Human Services, 200 Independence Avenue, SW., Room 443H; (202) 690-5560.

SUPPLEMENTARY INFORMATION: PACHA was established by Executive Order 12963, dated June 14, 1995, as amended by Executive Order 13009, dated June 14, 1996; and Section 222 of the Public Health Service Act (42 U.S.C. 217a). The Council was established to provide advice, information, and recommendations to the Secretary of Health and Human Services regarding programs and policies to promote effective prevention and cure of HIV disease and AIDS. The functions of the Council shall be solely advisory in nature.

Since PACHA was established, renewal of its charter has been carried out at the appropriate intervals as stipulated by FACA. The previous Council charter was scheduled to expire on July 27, 2009. On July 24, 2009, the Secretary of Health and Human Services approved for the Council charter to be renewed. Renewal of the PACHA charter provides authorization for the Council to operate until July 27, 2011.

A copy of the Council charter is available on the PACHA Web site at http://www.pacha.gov. A copy of the Council charter also can be obtained by accessing the FACA database that is maintained by the Committee Management Secretariat under the General Services Administration. The Web site address for the FACA database is http://fido.gov/facadatabase.

Dated: July 28, 2009.
Christopher H. Bates,
Interim Executive Director, Presidential Advisory Council on HIV/AIDS.

[FR Doc. E9-18572 Filed 8-3-09; 8:45 am]

BILLING CODE 4150-43-P